DEPARTMENT OF THE TREASURY

Fiscal Service

31 CFR Part 202

RIN-1510-AA75

Depositaries and Financial Agents of the Government

AGENCY: Financial Management Service, Fiscal Service, Treasury.

ACTION: Final Rule.

SUMMARY: The Financial Management Service (FMS) is issuing this final rule which governs the designation of Depositaries and Financial Agents of the Federal Government; their authorization to accept deposits of public money and to perform other specific services; and the securing of public money. This revision removes current references to collateral acceptability and valuation and replaces them with references to the new rule of the Bureau of the Public Debt (BPD), codified at 31 CFR part 380, governing collateral acceptability and valuation. The revision is necessary because the responsibility for determining the acceptability and valuation of collateral under 31 CFR part 202 was recently transferred from FMS to BPD.

EFFECTIVE DATE: October 13, 2000.

FOR FURTHER INFORMATION CONTACT: Mary Bailey, Financial Program Specialist, at (202) 874-6749; Walt Henderson, Senior Financial Program Specialist, at (202) 874-6705; Cynthia L. Johnson, Director, Cash Management Policy and Planning Division, at (202) 874-6590; or Marc Seldin, Senior Attorney, at (202) 874-6680. A copy of this final rule is available on FMS' web site at the following address: www.fms.treas.gov/regs.html.

SUPPLEMENTARY INFORMATION:

Background

Depositaries accepting deposits of public money and providing other financial agency services to the United States (depositaries) are required to pledge adequate acceptable securities as collateral, as directed by the Secretary of the Treasury (Secretary). The Secretary previously promulgated regulations, codified at 31 CFR part 202, setting forth general requirements for designating depositaries and the pledging of collateral.

While FMS continues to be responsible for all other operational and regulatory oversight of programs under 31 CFR part 202, responsibility for determining the acceptability and valuation of collateral pledged for programs under this regulation was recently transferred from FMS to BPD, another bureau within the Fiscal Service of the Department of the Treasury (Treasury). BPD has promulgated a regulation, codified at 31 CFR part 380 and published elsewhere in this issue of the Federal Register, governing such collateral acceptability and valuation. The current rule provides that types and valuation of acceptable collateral securities will be specified in Treasury procedural instructions. The revised rule results in no effective change. Current references to collateral acceptability and valuation are removed and replaced with references to BPD's collateral acceptability and valuation rule, which similarly provides that types and valuations of acceptable collateral securities will be specified in Treasury procedural instructions. Treasury procedural instructions issued under the current rule and the revised rule are presently identical. This rule also revises the heading of this part for clarity and the format of the authority citation for this part for consistency.

Regulatory Analyses

It has been determined that this regulation is not a significant regulatory action as defined in Executive Order 12866. Therefore, a Regulatory Assessment is not required.

Executive Order 12866 and the President's memorandum of June 1, 1998 require each agency to write all rules in plain language.

We invite your comments on the clarity of this rule. Please send any comments to the Department of the Treasury, Financial Management Service, Cash Management Policy and Planning Division, 401 14th Street, SW, Washington, DC 20227.

Because no notice of proposed rulemaking is required, the provisions of the Regulatory Flexibility Act do not apply.

Because this regulation merely affects internal agency organization and does not substantively change the current rule, no notice of proposed rulemaking is required by 5 U.S.C. 553.

List of Subjects in 31 CFR Part 202

Banks, Banking.

For the reasons set out in the preamble, 31 CFR part 202 is amended as follows:

1. Amend the heading of part 202 to read as follows:

PART 202—DEPOSITARIES AND FINANCIAL AGENTS OF THE FEDERAL GOVERNMENT

2. Revise the authority citation for part 202 to read as follows:

Authority: 12 U.S.C. 90, 265-266, 391, 1452(d), 1464(k), 1789a, 2013, 2122 and 3101-3102; 31 U.S.C. 3303 and 3336.

3. Amend § 202.6 to revise paragraph (b) to read as follows:

§ 202.6 Collateral security.

* * * * *

(b) Acceptable security. Types and valuations of acceptable collateral security are addressed in 31 CFR part 380. For a current list of acceptable classes of securities and instruments described in 31 CFR part 380 and their valuations, see the Bureau of the Public Debt's web site at www.publicdebt.treas.gov.

* * * * *

Dated: September 1, 2000.
Richard L. Gregg,
Commissioner.

[FR Doc. 00-23088 Filed 9-12-00; 8:45 am]

BILLING CODE 4810-35-P